DEPARTMENT OF DEFENSE

Department of the Army

Draft Environmental Impact Statement (DEIS) for the Transformation of the Pennsylvania Army National Guard's (PAARNG) 56th Brigade Into a Stryker Brigade Combat Team (SBCT) at the National Guard Training Center (NGTC)—Fort Indiantown Gap (FITG), PA

AGENCY: National Guard Bureau (NGB), Department of the Army, DoD.

ACTION: Notice of availability.

SUMMARY: The Department of the Army and NGB have proposed to transform the PAARNG's 56th Brigade into an SBCT. This DEIS discusses in-depth three alternatives: (1) the Preferred Alternative, (2) Train Using Existing Army Facilities Alternative, and (3) the No Action Alternative. Under the Preferred Alternative, the PAARNG proposed construction of new training and support facilities at NGTC-FTIG; at Fort Pickett, Virginia; and at local PAARNG facilities across the State of Pennsylvania, as well as conducting Annual Training (AT) at Fort A.P. Hill, Virginia, in order to accomplish requisite training. Under the Train Using Existing Army Facilities Alternative, no construction at NGTC-FTIG or Fort Pickett would occur; the statewide facilities improvements would occur. Required SBCT Inactive Duty Training (IDT) and AT would be conducted at select regional Army training installations using existing facilities. Other alternatives considered but eliminated from detail study are also addressed in the DEIS.

DATES: The comment period for the DEIS will end 45 days after publication of an NOA in the Federal Register by the U.S. Environmental Protection Agency.

ADDRESSES: Written comments or materials should be forwarded to Lieutenant Colonel Christopher Cleaver, NGTC-FTIG Public Affairs Officer, PADMVA Headquarters, Building O-47, Annville, Pennsylvania 17003-5002 or Captain Patricia Rickard, NGTC-FTIG EIS Project Officer, NGTC-FTIG Environmental Section, 1119 Utility Road, Annville, Pennsylvania 17003-5002.

FOR FURTHER INFORMATION CONTACT: Lieutenant Colonel Cleaver at (717) 861-8468 or Captain Richard at (717) 861-2580.

SUPPLEMENTARY INFORMATION: The PAARNG, while developing this DEIS, conducted studies concentrated on possible effects on the following issue areas: land use; air quality; noise; geology; topography and soils; water resources; biological resources; cultural resources; socioeconomics; environmental justice; infrastructure; and hazardous and toxic materials and wastes (HTMW). Significant impacts would be anticipated from both action alternatives, although the Preferred Alternative would result in greater impacts. The Train at Existing Army Facilities Alternative would result in fewer impacts but would not achieve the purpose of and need for the Proposed Action as effectively and efficiently as the Preferred Alternative. Studies concluded that implementation of the Preferred Alternative would result in some significant but unmitigable impacts to air quality, geology and soils, and biological resources, and would result in significant but mitigable impacts to land use, water resources, cultural resources, and the HTMW. The Preferred Alternative would also result in beneficial impacts to socioeconomics and to minority and low income populations. The Train Using Existing Army Facilities Alternative would result in significant unmitigable impacts to air quality (e.g, via fugitive dust during training episodes) and would negate the beneficial socioeconomic impacts of the Preferred alternative in the vicinities of NGTC-FTIG and Fort Pickett; the statewide (Pennsylvania) socioeconomic benefits would still occur. The No Action Alternative would result in no significant impacts but would not achieve the established purpose of and need for the Proposed Action.

SBCT is a new concept that uses technology and information to improve the abilities of Army units. This change will allow the Army greater flexibility and will improve the variety of missions to which they can respond. The SBCT will use the ligher, more efficient, and more maneuverable Stryker vehicle to increase the speed at which Soldiers are transported to conflict areas, and will provide protective cover as Soldiers dismount and move by foot to desired target areas. The Stryker also enables Soldiers to obtain time sensitive, critical information and intelligence from their commanders and to maintain constant communication via refined satellite links and internet connections. This is a radical departure from the way Soldiers fight today and requires new ranges, training facilities and training protocols, as well as high-tech communication facilities, to ensure the military readiness and preparedness of the SBCT's to fulfill military objectives.

Dated: July 28, 2005.
Daphne Kamely,
Acting Deputy Assistant Secretary of the Army (Environment, Safety and Occupational Health) OASA (I&E).

[FR Doc. 05-15278 Filed 8-2-05; 8:45 am]

BILLING CODE 3710-08-M